DEPARTMENT OF EDUCATION

Notice of Proposed Information Collection Requests

AGENCY: Department of Education.

ACTION: Correction Notice.

SUMMARY: On March 28, 2007, the Department of Education published a notice in the Federal Register (Page 14542, Column 1) for the information collection, “Study of the Program for Infant Toddler Care”. This notice hereby corrects the number of responses from 2,667 to 3,722.

The IC Clearance Official, Regulatory Information Management Services, Office of Management, hereby issues a correction notice as required by the Paperwork Reduction Act of 1995.

Dated: April 27, 2007.
Angela C. Arrington,
IC Clearance Official, Regulatory Information Management Services, Office of Management.

[FR Doc. E7-8354 Filed 5-1-07; 8:45 am]

BILLING CODE 4000-01-P